DEPARTMENT OF LABOR

Occupational Safety and Health Administration

[Docket No. OSHA-2012-0006]

Federal Advisory Council on Occupational Safety and Health (FACOSH)

AGENCY: Occupational Safety and Health Administration (OSHA), Labor.

ACTION: Announcement of FACOSH meeting and member appointments.

SUMMARY: The Federal Advisory Council on Occupational Safety and Health (FACOSH) will meet May 3, 2012, in Washington, DC. This Federal Register notice also announces the appointment of seven individuals to serve on FACOSH.

DATES: FACOSH meeting: FACOSH will meet from 1 to 4:30 p.m., Thursday, May 3, 2012.

Submission of comments, requests to speak, speaker presentations, and requests for special accommodations: You must submit (postmark, send, transmit) comments, requests to speak at the FACOSH meeting, speaker presentations, and requests for special accommodations to attend the meeting by April 23, 2012.

ADDRESSES:

FACOSH meeting: FACOSH will meet in Room N-4437 A-D, U.S. Department of Labor, 200 Constitution Avenue NW., Washington, DC 20210.

Submission of comments, requests to speak, and speaker presentations: You may submit comments, requests to speak at the FACOSH meeting, and speaker presentations using one of the following methods:

Electronically: You may submit materials, including attachments, electronically at http://www.regulations.gov, the Federal eRulemaking Portal. Follow the online instructions for making submissions;

Facsimile: If your submission, including attachments, does not exceed 10 pages, you may fax it to the OSHA Docket Office at (202) 693-1648; or

Mail, express delivery, hand delivery, or messenger/courier service: You may submit materials to the OSHA Docket Office, Docket No. OSHA-2012-0006, Room N-2625, U.S. Department of Labor, 200 Constitution Avenue NW., Washington, DC 20210; telephone (202) 693-2350 (TTY (877) 889-5627). Deliveries (hand, express mail, messenger or courier service) are accepted during the Department's and the OSHA Docket Office's normal business hours, 8:15 a.m.-4:45 p.m., e.t.

Requests for special accommodations to attend the FACOSH meeting: You may submit requests for special accommodations by telephone, email, or hard copy to Ms. Veneta Chatmon, OSHA Office of Communications, Room N-3647, U.S. Department of Labor, 200 Constitution Avenue NW., Washington, DC 20210; telephone (202) 693-1999; email chatmon.veneta@dol.gov.

Instructions: All submissions must include the agency name and docket number for this Federal Register notice (Docket No. OSHA-2012-0006). Because of security-related procedures, submissions by regular mail may result in a significant delay in their receipt. Please contact the OSHA Docket Office for information about security procedures for making submissions by hand delivery, express delivery, and messenger or courier service. For additional information on submitting comments, requests to speak, and speaker presentations, see the SUPPLEMENTARY INFORMATION section below.

OSHA will post comments, requests to speak, and speaker presentations, including any personal information provided, without change at http://www.regulations.gov. Therefore, OSHA cautions interested parties about submitting certain personal information, such as Social Security numbers and birthdates.

FOR FURTHER INFORMATION CONTACT:

For press inquiries: Mr. Frank Meilinger, Director, OSHA Office of Communications, U.S. Department of Labor, Room N-3647, 200 Constitution Avenue NW., Washington, DC 20210; telephone (202) 693-1999; email meilinger.francis2@dol.gov.

For general information: Mr. Francis Yebesi, OSHA, Office of Federal Agency Programs, U.S. Department of Labor, Room N-3622, 200 Constitution Avenue NW., Washington, DC 20210; telephone (202) 693-2122; email ofap@dol.gov.

SUPPLEMENTARY INFORMATION:

FACOSH Meeting

FACOSH will meet May 3, 2012, in Washington, DC. FACOSH meetings are open to the public. The tentative agenda for the FACOSH meeting includes:

• Revised recommendations on permissible exposure limits (PELs) from FACOSH's Emerging Issues—PELs Work Group;

• Proposed changes to the Federal Agency Recordkeeping rule; and

• H1N1 recommendations the Secretary of Labor (Secretary) recently approved.

FACOSH is authorized by 5 U.S.C. 7902, section 19 of the Occupational Safety and Health Act of 1970 (OSH Act) (29 U.S.C. 668), and Executive Order 11612, as amended, to advise the Secretary on all matters relating to the occupational safety and health of federal employees. This includes providing advice on how to reduce and keep to a minimum the number of injuries and illnesses in the federal workforce and how to encourage each Federal Executive Branch department and agency to establish and maintain effective occupational safety and health programs.

OSHA transcribes and prepares detailed minutes of FACOSH meetings. The Agency puts transcripts, minutes, and other materials presented at the meeting in the public record of the FACOSH meeting, which is posted at http://www.regulations.gov.

Public Participation, Submissions, and Access to Public Record

FACOSH meetings: FACOSH meetings are open to the public. Individuals attending meetings at the U.S. Department of Labor must enter the building at the Visitors' Entrance, 3rd and C Streets, NW., and pass through building security. Attendees must have valid government-issued photo identification to enter the building. For additional information about building security measures for attending the FACOSH meeting, please contact Ms. Chatmon (see ADDRESSES section).

Please submit your request for special accommodations to attend the FACOSH meeting to Ms. Chatmon.

Submission of requests to speak and speaker presentations. You may submit a request to speak to FACOSH about the topics of the meeting and speaker presentations by one of the methods listed in the ADDRESSES section. Your request must state:

• The amount of time you request to speak;

• The interest you represent (e.g., organization name), if any; and,

• A brief outline of your presentation.

PowerPoint speaker presentations and other electronic materials must be compatible with PowerPoint 2003 and other Microsoft Office 2003 formats.

The FACOSH chair may grant requests to address FACOSH at his discretion and as time and circumstances permits.

Submission of written comments. You also may submit written comments, including data and other information, using any of the methods listed in the ADDRESSES section. Your submissions, including attachments and other materials, must identify the agency name and the OSHA docket number for this notice (Docket No. OSHA-2012-0006). You may supplement electronic submissions by uploading documents electronically. If you wish to submit hard copies of supplementary documents instead, you must submit them to the OSHA Docket Office using the instructions in the ADDRESSES section. The additional materials must clearly identify your electronic submission by name, date, and docket number.

Because of security-related procedures, submitting comments, requests to speak, and speaker presentations by regular mail may cause a significant delay in their receipt. For information about security procedures concerning submissions by hand, express delivery, and messenger or courier service, please contact the OSHA Docket Office (see ADDRESSES section).

OSHA will provide copies of your submissions to FACOSH members prior to the meeting.

Access to submissions and public record. OSHA places comments, requests to speak, and speaker presentations, including any personal information you provide, in the FACOSH public docket without change and those documents may be available online at http://www.regulations.gov. Therefore, OSHA cautions interested parties about submitting certain personal information, such as Social Security numbers and birthdates.

OSHA also puts meeting transcripts, minutes, work group reports, and documents presented at the FACOSH meeting in the public record of the FACOSH meeting.

To read or download documents in the public record, go to Docket No. OSHA-2012-0006 at http://www.regulations.gov. Although all meeting documents are listed in the http://www.regulations.gov index, some documents (e.g., copyrighted material) are not publicly available to read or download through that Web page. All meeting documents, including copyrighted material, are available for inspection and copying at the OSHA Docket Office.

Information on using the http://www.regualtions.gov to make submissions and to access the public record of the FACOSH meeting is available at that Web page. Please contact the OSHA Docket Office for information about materials not available through that Web page and for assistance for making submissions and obtaining documents in the public record. Electronic copies of this Federal Register notice are available at http://www.regulations.gov. This notice, as well as news releases and other relevant information about FACOSH, also is available at OSHA's Web page at http://www.osha.gov.

Announcement of FACOSH Appointments

FACOSH is comprised of 16 members; eight representing federal agency management and eight from labor organizations representing federal employees. The Secretary has appointed the following individuals to a three-year term on FACOSH:

Federal employee representatives:

• Gregory Junemann, International Federation of Professional and Technical Engineers; and

• Milagro Rodriguez, American Federation of Government Employees.

Federal agency management representatives:

• Catherine V. Emerson, U.S. Department of Homeland Security;

• Rhea S. Suh, U.S. Department of the Interior; and

• Richard S. Williams, National Aeronautics and Space Administration.

In addition, the Secretary has appointed Dennis Bushta, U.S. Environmental Protection Agency, to complete the unexpired term of a federal agency management representative who was no longer able to serve on FACOSH.

Authority and Signature

David Michaels, Ph.D., MPH, Assistant Secretary of Labor for Occupational Safety and Health, directed the preparation of this notice under the authority granted by section 19 of the Occupational Safety and Health Act of 1970 (29 U.S.C. 668), 5 U.S.C. 7902, the Federal Advisory Committee Act (FACA) (5 U.S.C. App. 2), 41 CFR part 102-3, section 1-5 of Executive Order 12196 (45 CFR 12729 (7/27/1980)), and Secretary of Labor's Order No. 1-2012 (77 FR 3912 (1/25/2012)).

Signed at Washington, DC, on April 9, 2012.
David Michaels,
Assistant Secretary of Labor for Occupational Safety and Health.

[FR Doc. 2012-8872 Filed 4-12-12; 8:45 am]

BILLING CODE 4510-26-P